DEPARTMENT OF EDUCATION

Proposed Priority for the Disability and Rehabilitation Research Projects and Centers Program

AGENCY: Office of Special Education and Rehabilitative Services, Department of Education.

ACTION: Notice of proposed priority.

Overview Information

[CFDA: 84.133A-13]

Notice of Proposed Priority; National Institute on Disability and Rehabilitation Research (NIDRR)—Disability and Rehabilitation Research Projects and Centers Program—Disability and Rehabilitation Research Project (DRRP)—Center on Knowledge Translation for Disability and Rehabilitation Research (KTDRR Center).

SUMMARY: The Assistant Secretary for Special Education and Rehabilitative Services proposes a priority for the Disability and Rehabilitation Research Projects and Centers Program administered by the National Institute on Disability and Rehabilitation Research (NIDRR). Specifically, this notice proposes a priority for a center on knowledge translation for disability and rehabilitation research (KTDRR Center). The Assistant Secretary may use this priority for a competition in fiscal year (FY) 2011 and later years. We take this action to focus research attention on areas of national need.

DATES: We must receive your comments on or before July 7, 2011.

ADDRESSES: Address all comments about this notice to Marlene Spencer, U.S. Department of Education, 400 Maryland Avenue, SW., room 5133, Potomac Center Plaza (PCP), Washington, DC 20202-2700.

If you prefer to send your comments by e-mail, use the following address: Marlene.Spencer@ed.gov. You must include “Proposed Priority for KTDRR Center” in the subject line of your electronic message.

FOR FURTHER INFORMATION CONTACT: Marlene Spencer. Telephone: (202) 245-7532 or by e-mail: Marlene.Spencer@ed.gov.

If you use a telecommunications device for the deaf (TDD), call the Federal Relay Service (FRS), toll free, at 1-800-877-8339.

SUPPLEMENTARY INFORMATION: This notice of proposed priority is in concert with NIDRR's currently approved Long-Range Plan (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for a DRRP competition in FY 2011 and possibly later years. However, nothing precludes NIDRR from publishing additional priorities, if needed. Furthermore, NIDRR is under no obligation to make an award for this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this proposed priority in room 5133, 550 12th Street, SW., Potomac Center Plaza, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended (Rehabilitation Act).

Program Authority: 29 U.S.C. 762(g) and 764(a).

Applicable Program Regulations: 34 CFR part 350.

Proposed Priority

This notice contains one proposed priority.

Center on Knowledge Translation for Disability and Rehabilitation Research (KTDRR Center)

Background

NIDRR's mission is to generate new knowledge and promote its effective use to improve the abilities of people with disabilities to perform activities of their choice in the community, and to expand society's capacity to provide full opportunities and accommodations for its citizens with disabilities (NIDRR Long Range Plan, 2006). Ensuring that research results can be used to inform decisions made by individuals with disabilities and their family members, disability advocates, service providers, researchers, educators, administrators, policymakers, and others is a critical goal in this mission.

Research is often not used by decisionmakers either because they are not aware of the research findings, or because they lack access to research findings in usable forms. In addition, to reap the full benefits of the research being disseminated, potential users must have information that enables them to judge the quality of the research and the strength of the evidence (particularly where there are competing research claims) as well as the relevance of the findings or products to their particular needs. The information being disseminated must be of high quality and be based on scientifically rigorous research.

In order to increase the impact of NIDRR-funded research, a strategic, comprehensive, and ongoing effort is needed to facilitate the effective use of research findings. NIDRR has adopted the conceptual framework of knowledge translation (KT) to help guide its efforts to promote the effective use of research findings. Knowledge translation in the NIDRR context refers to a multidimensional, active process of ensuring that new knowledge and products gained via research and development reach intended audiences; are understood by these audiences; and are used to improve participation of individuals with disabilities in society. KT encompasses all steps from the creation of new knowledge to the synthesis, dissemination, and implementation of such knowledge (Canadian Institutes of Health Research, 2010), and is built upon continuing interactions and partnerships within and between different groups of knowledge creators and users.

Systematic review, an important step within the KT process, employs an objective and transparent method to identify, evaluate, and synthesize the research on a particular topic. A systematic review involves a comprehensive and systematic search of the research literature on a topic for relevant studies, which are then evaluated using pre-determined, objective criteria for relevance and methodological rigor. In a systematic review, the evidence from relevant studies that meet the pre-determined criteria is then analyzed and synthesized, with the standard of evidence applicable to particular findings clearly identified. In order to ensure that the information is current, systematic reviews should be updated and improved at regular intervals. We encourage potential applicants to examine procedures used by such organizations as the Campbell Collaboration (http://www.campbellcollaboration.org/), the Cochrane Collaboration (http://www.cochrane.org/), the Department of Education What Works Clearinghouse (http://www.w-w-c.org/), and the Evidence for Policy and Practice Information and Coordinating Center (http://eppi.ioe.ac.uk/cms/) for more information on systematic reviews.

NIDRR previously funded the National Center for the Dissemination of Disability Research (NCDDR) to support and implement its KT efforts. The NCDDR made progress in many areas, including identification of standards, guidelines, and methods that are appropriate for systematic reviews of disability and rehabilitation research; development of partnerships with existing collaborations and registries to facilitate systematic reviews of disability and rehabilitation research topics; development of informational materials on KT; and provision of technical assistance on KT methods to NIDRR grantees. With this priority, NIDRR proposes to fund a center on knowledge translation for disability and rehabilitation research (KTDRR Center). The KTDRR Center will continue and expand upon the previous work of the NCDDR by leading NIDRR's KT efforts. These KT efforts will allow NIDRR grantees to stay current with new advances in KT practices. These practices include, for example, methods for systematic reviews of social science and public policy research topics for which little experimental evidence exists, and emerging strategies and approaches for meaningful inclusion of intended audiences in the research process. In addition, the KTDRR Center will serve the important role of providing ongoing capacity building and technical assistance to support NIDRR's grantees in their KT efforts.

References

Canadian Institutes of Health Research (2010). More About Knowledge Translation at CIHR. http://www.cihr-irsc.gc.ca/e/39033.html.

NIDRR (2006). Notice of Final Long Range Plan. (71 FR 8165), see: http://www.ed.gov/about/offices/list/osers/nidrr/policy.html.

Proposed Priority

The Assistant Secretary for Special Education and Rehabilitative Services proposes a priority for a center on knowledge translation for disability and rehabilitation research (KTDRR Center). The purpose of the KTDRR Center is to promote the use of high-quality disability and rehabilitation research that is relevant to the needs of intended audiences by serving as the main knowledge translation (KT) resource for other NIDRR grantees, including NIDRR grantees that serve as KT centers (NIDRR KT Centers). The KTDRR Center's work will also be available to researchers who are not NIDRR grantees, as well as to the public.

For purposes of this priority, KT refers to a multidimensional, active process of ensuring that new knowledge and products gained via research and development reach intended audiences; are understood by these audiences; and are used to improve participation of individuals with disabilities in society. KT encompasses all steps from the creation of new knowledge to the synthesis, dissemination, and implementation of such knowledge, and is built upon continuing interactions and partnerships within and between different groups of knowledge creators and users.

Under this priority, the KTDRR Center must contribute to the following outcomes:

(a) Increased use of valid and relevant disability and rehabilitation research findings to inform decision-making by individuals with disabilities and their family members, disability advocates, service providers, researchers, educators, administrators, policy-makers, and others. The KTDRR Center must contribute to this outcome by—

(1) Identifying standards, guidelines, and methods that are appropriate for conducting systematic reviews and developing research syntheses on disability and rehabilitation research. NIDRR grantees must be able to use these standards, guidelines, and methods to systematically assess and describe the rigor of the research, and the quality and relevance of the evidence being considered. The standards used to assess and describe the rigor of the research and the quality of the evidence must be consistent with the definitions of strong and moderate evidence in the notice of final supplemental priorities and definitions for discretionary grant programs published in the Federal Register on December 15, 2010 (75 FR 78486);

(2) Providing NIDRR grantees with technical assistance on conducting systematic reviews and developing research syntheses in the grantee's area of expertise, using standards, guidelines, and methods that the KTDRR Center identifies pursuant to paragraph (a)(1) of this priority. In so doing, the KTDRR Center must choose appropriate standards, guidelines, or methods, taking into account the types of research and stages of knowledge development in the substantive area(s) being reviewed; and

(3) Providing NIDRR grantees with technical assistance on how to use KT practices that are appropriate for their intended audiences, to promote the use of systematic reviews and research syntheses in the grantee's area of expertise.

(b) Increased knowledge of KT principles and use of current KT practices among NIDRR grantees, including NIDRR KT Centers. The KTDRR Center must contribute to this outcome by—

(1) Providing NIDRR grantees with technical assistance on how to disseminate their research findings using formats and dissemination channels that are appropriate for the intended audiences;

(2) Synthesizing and disseminating information from the KT literature that can be used to improve KT practices used by NIDRR grantees, including other NIDRR KT Centers;

(3) Identifying and showcasing promising KT practices employed by NIDRR KT Centers, other NIDRR grantees, and other entities to increase the use of disability and rehabilitation research findings by individuals with disabilities and their family members, disability advocates, service providers, researchers, educators, administrators, policy-makers, and others;

(4) Facilitating the exchange of KT information among other NIDRR grantees, including other NIDRR KT Centers;

(5) Organizing and sponsoring events (e.g., conferences, workshops, webinars, and other appropriate training events) to build KT capacity among NIDRR grantees; and

(6) Providing technical assistance on KT to other NIDRR KT Centers and other NIDRR grantees, upon request of those centers and grantees.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits

The benefits of the Disability and Rehabilitation Research Projects and Centers Programs have been well established over the years in that similar projects have been completed successfully. This proposed priority will generate new knowledge through research and development. Another benefit of this proposed priority is that the establishment of new DRRPs will improve the lives of individuals with disabilities. The new DRRP will generate, disseminate, and promote the use of new information that will improve the options for individuals with disabilities to perform regular activities in the community.

Intergovernmental Review: This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 2, 2011.
Alexa Posny,
Assistant Secretary for Special Education and Rehabilitative Services.

[FR Doc. 2011-14024 Filed 6-6-11; 8:45 am]

BILLING CODE 4000-01-P